ENVIRONMENTAL PROTECTION AGENCY

[FRL-7879-5]

Science Advisory Board Staff Office; Cancellation of Public Meetings of the Science Advisory Board Environmental Engineering Committee

AGENCY: Environmental Protection Agency (EPA).

ACTION: Notice.

SUMMARY: The Environmental Protection Agency (EPA), Science Advisory Board (SAB) Staff Office is canceling two public meetings of the SAB's Environmental Engineering Committee (EEC) announced earlier (70 FR 7934, February 16, 2005).

DATES: March 10, 2005. The public conference call from 3 p.m. to 5 p.m. Eastern Time has been cancelled. March 15-17, 2005. The public meeting scheduled for March 15-17, 2005 has been cancelled.

Dated: February 23, 2005.
Vanessa T. Vu,
Director, EPA Science Advisory Board Staff Office.

[FR Doc. 05-4000 Filed 2-28-05; 8:45 am]

BILLING CODE 6560-50-P